ENVIRONMENTAL PROTECTION AGENCY

[FRL-7642-4]

EPA Public Meeting: Market Enhancement Opportunities for Water-Efficient Products; Notice of Public Meeting

AGENCY: Environmental Protection Agency (EPA).

ACTION: Notice.

SUMMARY: The Environmental Protection Agency is hosting a two-day public meeting to discuss market enhancement opportunities for water-efficient products. EPA's goal is to bring together stakeholders from Federal, state and local governments; utilities; manufacturers; building trade associations; consumer groups; and other interested parties to exchange information and views on promoting water-efficient products in the marketplace. The focus of this meeting will be on indoor residential, commercial, and industrial products. The first meeting, held in Washington, DC on October 9, 2003, served to initiate our process and gain reactions from a broad range of stakeholders. A second meeting was held in Austin, TX on January 15, 2004, and focused on the roles of water utilities; state, local, and regional governments; and non-governmental organizations. The third meeting, held in Phoenix, AZ on February 17, 2004, focused on urban landscape irrigation.

The meeting will consist of several panel discussions, and is open to the public. The audience will have opportunities to ask questions and provide comments.

DATES: The meeting will be held on April 13, 2004 (8:30 am-5 pm), and April 14, 2004 (8:30 am-12 noon).

ADDRESSES: The meeting will be held at the Renaissance Hotel, 515 Madison St., Seattle, WA 98104.

FOR FURTHER INFORMATION CONTACT: For more information on this meeting, including an agenda, please see EPA's Water-Efficient Products Market Enhancement Program Web page at http://www.epa.gov/owm/water-efficiency/products_program.htm. To register online from the Water-Efficient Products Market Enhancement Program page, click on the “Register for Meetings and View Agendas” link. You may also register by contacting ERG, Inc. by phone (781-674-7374), or by downloading the registration form and sending the completed form to ERG via fax at 781-674-2906 or mail to ERG, Conference Registration, 110 Hartwell Avenue, Lexington, MA 02421-3136. Seating is limited, therefore please register or request special accommodations no later than April 5, 2004.

Dated: March 25, 2004.
James A. Hanlon,
Director, Office of Wastewater Management.

[FR Doc. 04-7330 Filed 3-31-04; 8:45 am]

BILLING CODE 6560-50-P